DEPARTMENT OF TRANSPORTATION

Federal Aviation Administration

Public Notice for a Change in Use of Aeronautical Property at Buffalo-Lancaster-Airport, Lancaster, NY

AGENCY: Federal Aviation Administration (FAA), DOT.

ACTION: Request for public comment.

SUMMARY: The FAA is requesting public comment on Lancaster Airport, Inc.'s (airport owner) notice of the proposed release of approximately 9.5 acres of airport property located along Walden Avenue approximately 2000 feet east of Pavement Road, to allow its sale for non-aviation development. This parcel was part of a larger tract, which was purchased by the airport owner for aeronautical use with 90% Federal participation. The subject is planned as a distribution warehouse, or other similar use. Documents reflecting the sponsor's request are available, by appointment only, for inspection at the Airport Manager's office and the FAA Airports District Office.

FAA's action is to release the land from a deed provision requiring aeronautical use of the property. Lancaster Airport, Inc. has stated that it has no aeronautical use for the parcel now or in the near future according to the Buffalo-Lancaster Airport Layout Plan.

The Fair Market Value of the land will be paid to Lancaster Airport, Inc. to be used for the capital development of the Buffalo-Lancaster Airport.

Any comments the agency receives will be considered as a part of the decision.

DATES: Comments must be received on or before July 23, 2004.

ADDRESSES: Comments on this application may be mailed or delivered to the FAA at the following address: Philip Brito, Manager, FAA New York Airports District Office, 600 Old Country Road, Suite 446, Garden City, New York 11530.

In addition, a copy of any comments submitted to the FAA must be mailed or delivered to Mr. Tom Geles, President, Lancaster Airport, Inc., at the following address: Mr. Tom Geles, President, Lancaster Airport, Inc., 10904 Townline Road, Darian Center, New York 14040.

FOR FURTHER INFORMATION CONTACT: Mr. Philip Brito, Manager, New York Airports District Office, 600 Old Country Road, Suite 446, Garden City, New York 11530; telephone (516) 227-3803; FAX (516) 227-3813; E-Mail Philip.Brito@faa.gov.

SUPPLEMENTARY INFORMATION: Section 125 of the Wendell H. Ford Aviation Investment and Reform Act for the 21st Century (AIR21) requires the FAA to provide an opportunity for public notice and comment before the Secretary may waive a sponsor's Federal obligation to use certain airport land for aeronautical use.

Issued in Garden City, New York on June 14, 2004.
Philip Brito,
Manager, New York Airports District Office Eastern Region.

[FR Doc. 04-14206 Filed 6-22-04; 8:45 am]

BILLING CODE 4910-13-M